DEPARTMENT OF COMMERCE

National Oceanic and Atmospheric Administration

RIN 0648-XA840

Marine Mammals; File Nos. 14097 and 16479

AGENCY: National Marine Fisheries Service (NMFS), National Oceanic and Atmospheric Administration (NOAA), Commerce.

ACTION: Notice; issuance of permit amendments.

SUMMARY: Notice is hereby given that a major amendment to Permit No. 14097-03 has been issued to the National Marine Fisheries Service, Southwest Fisheries Science Center (SWFSC) (Responsible Party: Lisa Ballance, Ph.D.), Protected Resources Division, 8901 La Jolla Shores Drive, La Jolla, CA 92037 and a major amendment to Permit No. 16479-01 has been issued to The Pacific Whale Foundation (PWF) (Responsible Party: Gregory Kaufman), 300 Maalaea Road, Suite 211, Wailuku, HI 96793.

ADDRESSES: The permit amendments and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Courtney Smith, (301) 427-8401.

SUPPLEMENTARY INFORMATION: On April 2, 2014 and January 10, 2014, notice was published in the Federal Register (79 FR 18527 and 79 FR 1833) that a request for an amendment to Permit No. 14097-03 and an amendment to Permit No. 16479-01, respectively, to conduct research on 57 cetacean species, including endangered Hawaiian insular false killer whales (Pseudorca crassidens), had been submitted by the above-named applicants. The requested permit amendments have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 14097-04 authorizes the SWFSC to conduct scientific research on 5 pinniped species, 57 cetacean species, and 5 sea turtle species in U.S. territorial and international waters of the Pacific, Southern, Indian, and Arctic Oceans for three projects. Cetacean surveys are conducted to determine the abundance, distribution, movement patterns, and stock structure of cetaceans. These studies are conducted through vessel surveys, aerial surveys, small plane photogrammetry, photo-identification (from vessels and small boats), biological sampling, radio tagging, and satellite tagging. The amendment to the permit authorizes: (1) The use of an unmanned aerial system (UAS) to photograph cetaceans during aerial surveys; (2) collect breath samples from gray whales (Eschrichtius robustus) using the UAS; (3) suction cup tag gray whales; and (4) attach dart/barb tags to 15 bottlenose (Tursiops truncatus) and 15 Risso's dolphins (Grampus griseus) per year. The permit amendment is valid through June 30, 2015.

Permit No. 16479-02 authorizes vessel-based research on humpback whales (Megaptera novaeangliae) in waters around Maui, Hawaii to quantify the potential for near misses between vessels and humpback whales, and define the probability of 'surprise encounters' with humpback whales. The permit amendment authorizes PWF to approach false killer whales for photo-identification and behavioral observation to study their occurrence, distribution, movement, site fidelity, abundance, social organization, home ranges, and life history in place of previously authorized takes for incidental harassment during vessel surveys. The number of annual takes authorized for the stock would not change. The permit expires on June 1, 2017.

An environmental assessment (EA) analyzing the effects of the permitted activities on the human environment was prepared in compliance with the National Environmental Policy Act of 1969 (42 U.S.C. 4321 et seq.) for each permit. Based on the analyses in the EAs, NMFS determined that issuance of the amended permits would not significantly impact the quality of the human environment and that preparation of an environmental impact statement was not required. That determination is documented in a Finding of No Significant Impact (FONSI) for each action, signed on July 7, 2014 (File No. 14097) and September 17, 2012 (File No. 16479).

As required by the ESA, issuance of each permit amendment was based on a finding that such permit: (1) Was applied for in good faith; (2) will not operate to the disadvantage of such endangered species; and (3) is consistent with the purposes and policies set forth in section 2 of the ESA.

Dated: July 22, 2014.
Julia Harrison,
Chief, Permits and Conservation Division, Office of Protected Resources, National Marine Fisheries Service.

[FR Doc. 2014-18106 Filed 7-31-14; 8:45 am]

BILLING CODE 3510-22-P